DEPARTMENT OF JUSTICE

Notice of Lodging of Proposed Consent Decree Under the Comprehensive Environmental Response, Compensation, and Liability Act (“CERCLA”)

On September 29, 2023, the Department of Justice lodged a proposed consent decree with the United States District Court for the District of New Jersey in the lawsuit entitled United States of America, New Jersey Department of Environmental Protection, the Commissioner of the New Jersey Department of Environmental Protection, and Administrator, New Jersey Spill Compensation Fund v. Stepan Company, Civil Action No. 2:23-cv-20769-KM-JRA.

The United States seeks performance of a remedial action and reimbursement of response costs under sections 106 and 107 of the Comprehensive Environmental Response, Compensation, and Liability Act (“CERCLA”) in connection with Operable Unit 1 of the Maywood Chemical Company Superfund Site (“Site”), located in Maywood, Lodi, and Rochelle Park, Bergen County, New Jersey. The New Jersey Department of Environmental Protection, the Commissioner of the New Jersey Department of Environmental Protection, and the Administrator of the New Jersey Spill Compensation Fund (collectively, “NJDEP”) are co-plaintiffs.

Under the proposed consent decree, the Settling Defendant (i.e., Stepan Company) agrees to perform response actions that are identified in the United States Environmental Protection Agency's (“EPA”) Record of Decision relating to Operable Unit 1 of the Site, dated September 23, 2014. The response actions address chemically contaminated soils at specified areas at the Site. The proposed consent decree also requires the Settling Defendant to pay the United States $362,853.28 and NJDEP $15,593.62 for past costs relating to Operable Unit 1. In addition, the proposed consent decree requires the Settling Defendant to pay the United States and NJDEP for future oversight costs relating to Operable Unit 1.

The publication of this notice opens a period for public comment on the proposed consent decree. Comments should be addressed to the Assistant Attorney General, Environment and Natural Resources Division, and should refer to United States of America, New Jersey Department of Environmental Protection, the Commissioner of the New Jersey Department of Environmental Protection, and Administrator, New Jersey Spill Compensation Fund v. Stepan Company, Civil Action No. 2:23-cv-20769-KM-JRA, D.J. Ref. No. 90-11-3-12439/1. All comments must be submitted no later than sixty (60) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $72.25 (25 cents per page reproduction cost), for the consent decree with appendices, or $10.25 for the consent decree without the appendices, payable to the United States Treasury.

Henry S. Friedman,
Assistant Section Chief, Environmental Enforcement Section, Environment and Natural Resources Division.

[FR Doc. 2023-22261 Filed 10-5-23; 8:45 am]

BILLING CODE 4410-15-P